DEPARTMENT OF COMMERCE

National Oceanic and Atmospheric Administration

50 CFR Part 660

[Docket No. 031216314-3314-01; I.D. 050704A]

RIN 0648-AR54

Fisheries off West Coast States and in the Western Pacific; Pacific Coast Groundfish Fishery; Annual Specifications and Management Measures; Inseason Adjustments

AGENCY: National Marine Fisheries Service (NMFS), National Oceanic and Atmospheric Administration (NOAA), Commerce.

ACTION: Inseason adjustments to management measures and request for comments.

SUMMARY: NMFS announces inseason adjustments to the Pacific Coast limited entry trawl groundfish fishery. These actions, which are authorized by the Pacific Coast Groundfish Fishery Management Plan (FMP), will allow fisheries access to more abundant groundfish stocks while protecting overfished and depleted stocks.

DATES: Changes to management measures are effective May 12, 2004, until the 2005-2006 specifications and management measures are effective, unless modified, superseded, or rescinded through a publication in the Federal Register. Comments on this rule will be accepted through June 11, 2004.

ADDRESSES: You may submit comments, identified by [docket number and/or RIN number], by any of the following methods:

• E-mail: GroundfishInseason#3.nwr@noaa.gov. Include [docket number and/or RIN number] in the subject line of the message.

• Federal eRulemaking Portal: http://www.regulations.gov. Follow the instructions for submitting comments.

• Fax: 206-526-6736

• Mail: D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Carrie Nordeen (Northwest Region, NMFS), phone: 206-526-6144; fax: 206-526-6736; and e-mail: carrie.nordeen@noaa.gov.

SUPPLEMENTARY INFORMATION:

Electronic Access

This Federal Register document is available on the Government Printing Office's website at: www.gpoaccess.gov/fr/index.html.

Background information and documents are available at the NMFS Northwest Region website at: www.nwr.noaa.gov/1sustfsh/gdfsh01.htm and at the Pacific Fishery Management Council's website at: www.pcouncil.org.

Background

The Pacific Coast Groundfish FMP and its implementing regulations at 50 CFR part 660, subpart G, regulate fishing for over 80 species of groundfish off the coasts of Washington, Oregon, and California. Groundfish specifications and management measures are developed by the Pacific Fishery Management Council (Pacific Council), and are implemented by NMFS. The specifications and management measures for the 2004 fishing year (January 1-December 31, 2004) were initially published in the Federal Register as an emergency rule for January 1-February 29, 2004 (69 FR 1322, January 8, 2004) and as a proposed rule for March 1-December 31, 2004 (69 FR 1380, January 8, 2004). The emergency rule was amended at 69 FR 4084, January 28, 2004. The final rule for March 1-December 31, 2004 was published in the Federal Register on March 9, 2004 (69 FR 11064) and amended at 69 FR 23440, April 29, 2004 and at 69 FR 25013, May 5, 2004.

The Pacific Council, in consultation with Pacific Coast Treaty Tribes and the States of Washington, Oregon, and California, at its April 4-9, 2004, meeting in Sacramento, CA recommended a number of changes to groundfish management measures. Most of these were implemented through an inseason adjustment published in the Federal Register at 69 FR 25013, May 5, 2004. However, the trawl trip limit adjustments for slope species contained in this document were mistakenly omitted from the May 5, 2004, Federal Register document. Therefore, NMFS is now implementing these remaining inseason adjustments.

The limited entry trawl cumulative trip limit increases for DTS (Dover sole, thornyheads, sablefish) and “other flatfish” species are in response to several factors influencing projected catch of groundfish during 2004. These factors include (1) an updated trawl bycatch model, (2) projected catch in the limited entry trawl fishery based on new observer data, and (3) a reduction in limited entry trawl fleet effort due to the limited entry trawl permit and vessel buyback program. Pacific Coast groundfish landings will be monitored throughout the year, and further adjustments to trip limits or management measures will be made as necessary to allow achievement of or avoid exceeding the 2004 optimum yields (OYs).

Limited Entry Trawl Fishery

The trawl bycatch model, used to calculate total catch, discard, and incidental catch rates of groundfish species in the limited entry trawl fisheries, was updated during the winter of 2004. Major changes to the model included a revision of the trawl participation and catch database as well as changes to the incidental catch rates of overfished groundfish species. The trawl participation and catch database is used as an indicator of past limited entry trawl permit participation and landed catch. This database tracks a weighted average (based on activity during the last several years) of landed catch per limited entry trawl permit, bimonthly period, subarea, and depth. Because this database is one of the basic foundations of the trawl bycatch model, the model operates under the assumption that past performance is a reasonable proxy for what level of effort may occur in the future. The trawl bycatch model was updated to reflect changes in fleet structure as a result of the limited entry trawl permit and vessel buyback program conducted in late 2003. However, because buyback related fleet structure changes are continuing to occur, higher levels of uncertainty are associated with the trawl bycatch model's predictions of projected catch during 2004 than in previous years.

The incidental catch rates of overfished groundfish species used in the trawl bycatch model were updated by stratifying them by depth, subarea, and cumulative limit period. This is a change from the previous trawl bycatch model that only stratified incidental catch rates by depth and subarea. In early 2004, new West Coast Groundfish Observer Program data were available and incorporated in the trawl bycatch model. With two years of data being used in the model, the Pacific Council sought the guidance of the Scientific and Statistical Committee about how to treat each year of data. Because more recent information is more likely to be representative of fishing behavior and catch data in the upcoming year, the SSC recommended a weighting scheme for observer data wherein the most recent data are weighted more heavily than older data. Therefore, NMFS estimated the incidental catch rates of overfished species from both years of observer data, applied a 2/3 weight to the 2003 rates, and a 1/3 weight to the 2002 rates, then summed those years to derive estimated incidental catch rates for overfished species.

Following the 2004 updates to the trawl bycatch model, catch projections generated by the model were compared to landings data reported in the Pacific Coast Fisheries Information Network (PacFIN). The landed catch of DTS (Dover sole, thornyheads, sablefish) species was predicted to be higher than that reported in PacFIN and the landed catch of Petrale sole and “other flatfish” species were predicted to be lower than that reported in PacFIN. Therefore, model predictions were scaled to account for these differences based on PacFIN landed catch estimates from January through February 2004 and landed catch estimates during the same period in 2003.

Changes to the bycatch model were based on new observer data, effort estimates following trawl buyback program, and landed catch data through the end of February 2004. Because of updated trawl bycatch model results, limited entry trawl cumulative trip limits for certain slope species, specifically DTS and “other flatfish” species, can be increased for the remainder of the year. Higher 2004 OYs for darkblotched rockfish and Pacific ocean perch combined with lower projected incidental catch rates for darkblotched rockfish and Pacific ocean perch, in areas seaward of the trawl Rockfish Conservation Area, allow higher slope trip limits to be put in place. Cumulative trip limit increases for the limited entry trawl fleet would enable the OYs for DTS and “other flatfish” to be achieved but not exceeded while still protecting overfished species by keeping the total mortality of overfished species within their rebuilding OYs.

Therefore, with this inseason action, NMFS is implementing the following Pacific Council recommended limited entry trawl cumulative trip limit increases in the area between the U.S. border with Canada and 40°10′ N. lat. The limited entry trawl large footrope and midwater trawl trip limit for sablefish will be increased from 8,700 lb (3,946 kg) per two months to 16,000 lb (7,257 kg) per two months for May through October and increased from 6,200 lb (2,812 kg) per two months to 11,000 lb (4,990 kg) per two months during November and December. The limited entry small footrope trawl trip limit for sablefish will be increased from 5,000 lb (2,268 kg) per two months to 10,000 lb (4,536 kg) per two months for May through October and increased from 2,000 lb (907 kg) per two months to 5,000 lb (2,268 kg) per two months during November and December. The limited entry trawl large footrope and midwater trawl trip limit for longspine thornyhead will be increased from 10,000 lb (4,536 kg) per two months to 18,000 lb (8,165 kg) per two months for May through December. The limited entry large footrope and midwater trawl trip limit for shortspine thornyhead will be increased from 2,100 lb (907 kg) per two months to 4,500 lb (2,041 kg) per two months for May through December. The limited entry trawl small footrope trawl trip limit for shortspine thornyhead will be increased from 1,000 lb (454 kg) per two months to 3,000 lb (1,361 kg) per two months for May through October. The limited entry trawl large footrope and midwater trawl trip limit for Dover sole will be increased from 21,000 lb (9,525 kg) per two months to 32,000 lb (14,515 kg) per two months for May through October and increased from 45,000 lb (20,412 kg) per two months to 50,000 lb (22,680 kg) per two months for November and December. The limited entry small footrope trawl trip limit for Dover sole will be increased from 21,000 lb (9,525 kg) per two months to 27,000 lb (12,247 kg) per two months for May through October and increased from 10,000 lb (4,536 kg) per two months to 18,000 lb (8,165 kg) per two months for November and December. The limited entry trawl small footrope trip limit for arrowtooth flounder will be increased from 6,000 lb (2,722 kg) per two months to 11,000 lb (4,990 kg) per two months for May through October and increased from 4,000 lb (1,814 kg) per two months to 8,000 lb (3,629 kg) per two months for November and December. The limited entry trawl small footrope trip limit for “other flatfish” will be increased from 60,000 lb (27,216 kg) per two months, no more than 25,000 lb (11,340 kg) per two months of which may be petrale sole, to 80,000 lb (36,287 kg) per two months, no more than 30,000 lb (13,608 kg) per two months of which may be petrale sole, for May through October. For November and December, the limited entry trawl small footrope trip limit for “other flatfish” will be increased from 30,000 lb (13,608 kg) per two months, no more than 10,000 lb (4,536 kg) per two months of which may be petrale sole, to 70,000 lb (31,752 kg) per two months, no more than 20,000 lb (9,072 kg) per two months of which may be petrale sole.

With this inseason action, in the area between 40°10′ N. lat. and the U.S. border with Mexico, NMFS is implementing the following limited entry trawl cumulative trip limit increases recommended by the Pacific Council. The limited entry trawl trip limit for sablefish will be increased from 7,500 lb (3,402 kg) per two months to 14,500 lb (6,578 kg) per two months for May through December. The limited entry trawl trip limit for longspine thornyhead will be increased from 10,000 lb (4,536 kg) per two months to 18,000 lb (8,165 kg) per two months for May through December. The limited entry trawl trip limit for shortspine thornyhead will be increased from 2,000 lb (907 kg) per two months to 4,500 lb (2,041 kg) per two months for May through December. The limited entry trawl trip limit for Dover sole will be increased from 26,000 lb (11,793 kg) per two months to 49,000 lb (22,226 kg) per two months for May through December. The limited entry trawl trip limit for “other flatfish” will be increased from 100,000 lb (45,359 kg) per two months, no more than 20,000 lb (9,072 kg) per two months of which may be petrale sole, to 120,000 lb (54,431 kg) per two months, no more than 20,000 lb (9,072 kg) per two months of which may be petrale sole, for May through October. For November and December, the limited entry trawl trip limit for “other flatfish” will be increased from 100,000 lb (45,359 kg) per two months to 120,000 lb (54,431 kg) per two months. The limited entry trawl catch of petrale sole for November and December will remain unlimited.

Limited entry trawl trip limits had been set at a precautionary level at the beginning of 2004, pending the release of new observer data. Because the new observer data indicate that the incidental catch of overfished species, specifically darkblotched rockfish and Pacific ocean perch, by the limited entry trawl fleet along the slope is lower than expected, limited entry trawl limits for slope species can be increased for the remainder of the year. These cumulative trip limit increases generate much needed revenue for the limited entry trawl fleet, a fleet that has been severely restricted in recent years to limit the catch of overfished species and enable the rebuilding of those stocks. The incidental catch of overfished species will continue to be minimized by the trawl RCA in areas and during seasons when the incidental catch of overfished species is high, as well as conservative trip limits for target species known to co-occur with overfished species. These inseason adjustments are predicted to help achieve, but not exceed, the 2004 OYs for Pacific Coast groundfish species. Landings in the Pacific Coast groundfish fisheries will continue to be monitored throughout the year and adjustments to trip limits will be made to keep catch within OYs, as necessary.

NMFS Actions

For the reasons stated herein, NMFS concurs with the Pacific Council's recommendations and hereby announces the following changes to the 2004 specifications and management measures (69 FR 11064, March 9, 2004, as amended at 69 FR 23440, April 29, 2004, and at 69 FR 25013, May 5, 2004) to read as follows:

1. On pages 11108-11114, in section IV., under B. Limited Entry Fishery, at the end of paragraph (1), Table 3 (North) and Table 3 (South) are revised to read as follows:

IV. NMFS Actions

B. Limited Entry Fishery

(1) * * *

BILLING CODE 3510-22-S

BILLING CODE 3510-22-C

* * * * *

Classification

These actions are authorized by the Pacific Coast groundfish FMP and its implementing regulations and are based on the most recent data available. The aggregate data upon which these actions are based are available for public inspection at the Office of the Administrator, Northwest Region, NMFS, (see ADDRESSES) during business hours.

The Assistant Administrator for Fisheries, NOAA, finds good cause to waive the requirement to provide prior notice and opportunity for public comment on this action pursuant to 5 U.S.C. 553(b)(3)(B), because providing prior notice and opportunity for comment would be impracticable. Providing prior notice and comment on the inseason adjustments would be impracticable because the data upon which these recommendations were based were provided to the Pacific Council and the Pacific Council made its recommendations at its April 4-9, 2004, meeting in Sacramento, CA. There was not sufficient time after that meeting to draft this inseason notice and undergo proposed and final rulemaking before the beginning of the next cumulative limit period, May 1, 2004. This inseason action increases some cumulative trip limits, which allows the limited entry trawl fleet to harvest additional fish during each two-month period. These harvest opportunities are a result, in part, of the limited entry trawl permit and vessel buyback conducted in 2003 and provide much needed revenue for the limited entry trawl fleet by providing access to healthy, deepwater groundfish stocks with minimal impacts on overfished species. Delays in implementing these additional harvest opportunities would likely prevent many members of the trawl fleet from harvesting the increased limits for the May-June cumulative limit period, thereby causing undue economic hardships on coastal communities relying on economic benefits resulting from the trawl buyback program.

For these reasons, good cause also exists to waive the 30 day delay in effectiveness requirement under 5 U.S.C. 553 (d)(3).

These actions are taken under the authority of 50 CFR 300.63(a)(3)and 660.323(b)(1) and are exempt from review under Executive Order 12866.

Authority: 16 U.S.C. 1801 et seq.

Dated: May 11, 2004.
Alan D. Risenhoover,
Acting Director, Office of Sustainable Fisheries, National Marine Fisheries Service.

[FR Doc. 04-11156 Filed 5-12-04; 4:02 pm]

BILLING CODE 3510-22-S